FEDERAL ELECTION COMMISSION

Sunshine Act Meeting Notice

AGENCY: Federal Election Commission.

DATE AND TIME: Thursday, August 23, 2012 at conclusion of the audit hearing (approximately 11:30 a.m.)

PLACE: 999 E Street NW., Washington, DC (Ninth Floor).

STATUS: This meeting will be open to the public.

Items To Be Discussed

Correction and Approval of the Minutes for the Meeting of August 2, 2012.

Draft Advisory Opinion 2012-27: National Defense Committee.

Draft Advisory Opinion 2012-29: Hawaiian Airlines, Inc.

Draft Advisory Opinion 2012-30: Revolution Messaging, LLC.

Audit Division Recommendation Memorandum on the National Campaign Fund (A09-26).

Management and Administrative Matters.

Individuals who plan to attend and require special assistance, such as sign language interpretation or other reasonable accommodations, should contact Shelley E. Garr, Deputy Secretary, at (202) 694-1040, at least 72 hours prior to the meeting date.

PERSON TO CONTACT FOR INFORMATION: Judith Ingram, Press Officer, Telephone: (202) 694-1220.

Shawn Woodhead Werth,
Secretary and Clerk of the Commission.

[FR Doc. 2012-20534 Filed 8-16-12; 4:15 pm]

BILLING CODE 6715-01-P